Title 3—

The President

Proclamation 8310

United Nations Day, 2008

By the President of the United States of America

A Proclamation

On October 24, 1945, in the wake of the devastation left by World War II, the United Nations was formally established. Today, we recognize the many contributions of the United Nations and renew our commitment to its founding principles.

Sixty-three years ago, representatives from around the world completed the founding charter of the United Nations and pledged to reaffirm faith in fundamental human rights and to unite their strength to maintain international peace and security. It is vital that this noble pledge continue to guide the United Nations throughout the 21st century. By taking an unequivocal stand against terrorists, those who traffic in persons, and all who exploit the poor, the needy, and the marginalized, the United Nations can live up to the noble ideals of the Universal Declaration of Human Rights.

The United Nations is an organization with extraordinary potential for good works. On United Nation's Day, we recommit ourselves to reforming the U.N., ensuring the highest standards are upheld throughout the organization, and renewing the principals of its charter for the 21st century.

NOW, THEREFORE, I, GEORGE W. BUSH, President of the United States of America, by virtue of the authority vested in me by the Constitution and laws of the United States, do hereby proclaim October 24, 2008, as United Nations Day. I urge the Governors of the 50 States, the Governor of the Commonwealth of Puerto Rico, and the officials of other areas under the flag of the United States to observe United Nations Day with appropriate ceremonies and activities.

IN WITNESS WHEREOF, I have hereunto set my hand this twenty-third day of October, in the year of our Lord two thousand eight, and of the Independence of the United States of America the two hundred and thirty-third.

[FR Doc. E8-25880

Filed 10-27-08; 11:15 am]

Billing code 3195-W9-P